DEPARTMENT OF THE INTERIOR

Fish and Wildlife Service

Proposed Information Collection; National Wildlife Refuge System Evaluation

AGENCY: Fish and Wildlife Service, Interior.

ACTION: Notice; request for comments.

SUMMARY: We (Fish and Wildlife Service) will ask the Office of Management and Budget (OMB) to approve the information collection described below. As required by the Paperwork Reduction Act of 1995 and as part of our continuing efforts to reduce paperwork and respondent burden, we invite the general public and other Federal agencies to take this opportunity to comment on this information collection.

DATES: You must submit comments on or before April 23, 2007.

ADDRESSES: Send your comments on the information collection to Hope Grey, Information Collection Clearance Officer, Fish and Wildlife Service, MS 222-ARLSQ, 4401 North Fairfax Drive, Arlington, VA 22203 (mail); hope_grey@fws.gov (e-mail); or (703) 358-2269 (fax).

FOR FURTHER INFORMATION CONTACT: To request additional information about this ICR, contact Hope Grey by mail, fax, or e-mail (see ADDRESSES) or by telephone at (703) 358-2482.

SUPPLEMENTARY INFORMATION:

I. Abstract

We have contracted with Management Systems International to perform an independent evaluation of the National Wildlife Refuge System (NWRS). Although the NWRS has existed for more than 100 years, it has never undergone an independent evaluation of its overall effectiveness in achieving its conservation mission. We are now seeking such an evaluation to identify program strengths and weaknesses, as well as gaps in performance information. Such evaluations are an important element of the OMB Program Assessment Rating Tool (PART) assessments, and this evaluation will satisfy the PART requirements. The evaluation includes two data collection components involving the public:

(1) An online survey of partners (e.g., volunteer groups, local and national conservation organizations, hunting and fishing groups, and other civic organizations).

(2) Individual and small group interviews of State fish and game officials and partners.

The perspective and observations of NWRS partners and State fish and game officials are critical to fully understand the issues and questions that the independent evaluation will explore. During 2007, we plan to interview 40 State fish and wildlife officials and 110 individuals from partner organizations. The small number of individuals interviewed and the nature of the interview process do not allow for generalization of interview findings to the larger local partner target population, or for the development of broad, evidenced-based conclusions.

The partners' survey addresses both of these shortcomings. By administering the web-based survey to a random sample of 500 partners, we will be able to identify important patterns (findings) across the population of partners and to develop conclusions to the key questions being examined by the evaluation. We plan to conduct the survey for a 2-week period during the first half of 2007. The partners' survey will collect data in three broad categories:

(1) Basic demographic data at the institutional level, including:

(a) Size of the partner organization.

(b) Length/duration of the partnership with the refuge.

(c) Type of organization (e.g., wildlife conservation, educational, etc.).

(2) Quality and characteristics of the relationship and interaction between partner organizations and the NWRS, including:

(a) Type of activities that the partner group conducts.

(b) Frequency and nature of interaction between the partner group and the refuge.

(c) Quality of the partnership between the partner organization and the refuge.

(3) Partners' perspective regarding the effectiveness and quality of NWRS programs and the progress being made towards the long-term goals of the NWRS.

The survey data will help us identify important patterns and characteristics. However, the survey will not, in most cases, provide the depth of information necessary to explain the observed patterns. Indepth interviews will provide an opportunity to explore in detail the main factors that cause or contribute to the patterns observed from the survey.

II. Data

OMB Control Number: None.

Title: National Wildlife Refuge System Evaluation.

Service Form Number(s): None.

Type of Request: New collection.

Affected Public: Organizations that collaborate with national wildlife refuges, including, but not limited to, State fish and wildlife agencies, volunteer groups, local and national conservation organizations, hunting and fishing groups, and other civic organizations.

Respondent's Obligation: Voluntary.

Frequency of Collection: One time.

Activity | Number of annual respondents | Number of annual responses | Completion time per response | Annual burden hours
Partners' Survey | 500 | 500 | 20 minutes | 167
Personal Interviews | 150 | 150 | 1 hour | 150
Total | 650 | 650 |  | 317

III. Request for Comments

We invite comments concerning this information collection on:

(1) whether or not the collection of information is necessary, including whether or not the information will have practical utility;

(2) the accuracy of our estimate of the burden for this collection of information;

(3) ways to enhance the quality, utility, and clarity of the information to be collected; and

(4) ways to minimize the burden of the collection of information on respondents.

Comments submitted in response to this notice are a matter of public record. We will include and/or summarize each comment in our request to OMB to approve this information collection.

Dated: January 17, 2007
Hope Grey,
Information Collection Clearance Officer, Fish and Wildlife Service.

[FR Doc. E7-2961 Filed 2-21-07; 8:45 pm]

Billing Code 4310-55-S